DEPARTMENT OF THE INTERIOR

Bureau of Land Management

DEPARTMENT OF AGRICULTURE

Forest Service

[CA 668_05_1610_PG_083A1]

Santa Rosa and San Jacinto Mountains National Monument Call for Public Nominations for National Monument Advisory Committee

AGENCIES: Bureau of Land Management and U.S. Forest Service.

ACTION: Notice of correction.

SUMMARY: Bureau of Land Management and U.S. Forest service jointly published notice in the Federal Register, March 22, 2005, listing an incorrect expiration date.

FOR FURTHER INFORMATION CONTACT: Frank Mowry, Writer-Editor, (760) 251-4822.

Correction: In the Federal Register of March 22, 2005, in FR Doc. 05-5453, on page 14481, first column, correct the expiration date in paragraph two, it should read:

This notice is an open request for the public to submit nominations applications for the five (5) National Monument Advisory Committee (MAC) positions, which will be open with the expiration of current members' terms in July 2006.

Dated: April 11, 2005.
Gail Acheson,
BLM, Palm Springs Field Office Manager.

Dated: April 13, 2005.
Laurie Rosenthal,
USFS, District Ranger.

Dated: April 11, 2005.
Danella George,
National Monument Manager.

[FR Doc. 05-9380 Filed 5-10-05; 8:45 am]

BILLING CODE 4310-40-P